NUCLEAR REGULATORY COMMISSION

[NRC-2015-0001]

Sunshine Act Meeting Notice

DATES: November 30, December 7, 14, 21, 28, 2015, January 4, 2016.

PLACE: Commissioners' Conference Room, 11555 Rockville Pike, Rockville, Maryland.

STATUS: Public and Closed.

Week of November 30, 2015

Thursday, December 3, 2015

9:30 a.m. Briefing on Equal Employment Opportunity and Civil Rights Outreach (Public Meeting); (Contact: Larniece McKoy Moore: 301-415-1942).

This meeting will be webcast live at the Web address— http://www.nrc.gov/.

Week of December 7, 2015—Tentative

There are no meetings scheduled for the week of December 7, 2015.

Week of December 14, 2015—Tentative

Tuesday, December 15, 2015

9:00 a.m. Hearing on Construction Permit for SHINE Medical Isotope Production Facility: Section 189a. of the Atomic Energy Act Proceeding (Public Meeting); (Contact: Steven Lynch: 301-415-1524).

This meeting will be webcast live at the Web address— http://www.nrc.gov/.

Thursday, December 17, 2015

9:30 a.m. Briefing on Project AIM 2020 (Public Meeting); (Contact: John Jolicoeur 301-415-1642).

This meeting will be webcast live at the Web address— http://www.nrc.gov/.

Week of December 21, 2015—Tentative

There are no meetings scheduled for the week of December 21, 2015.

Week of December 28, 2015—Tentative

There are no meetings scheduled for the week of December 28, 2015.

Week of January 4, 2016

There are no meetings scheduled for the week of January 4, 2016.

* * * * *

The schedule for Commission meetings is subject to change on short notice. For more information or to verify the status of meetings, contact Denise McGovern at 301-415-0681 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: November 24, 2015.
Denise L. McGovern,
Policy Coordinator, Office of the Secretary.

[FR Doc. 2015-30420 Filed 11-25-15; 11:15 am]

BILLING CODE 7590-01-P